DEPARTMENT OF ENERGY

Federal Energy Regulatory Commission

[Project No. 459-143; Docket No. EL05-73-003]

Duncan's Point Lot Owners Association, Inc.; Duncan's Point Homeowners Association, Inc. and Nancy A. Brunson, Juanita Brackens, Helen Davis, and Pearl Hankins, Individually v. Union Electric Company d/b/a AmerenUE; Notice Dismissing Complaint as Premature

December 1, 2005.

On November 14, 2005, Duncan's Point Lot Owners Association, Inc., Duncan's Point Homeowners Association, Inc., Nancy A. Brunson, Juanita Brackens, Helen Davis, and Pearl Hankins (Complainants) filed what they termed a formal complaint against Union Electric Company, doing business as AmerenUE, licensee of the Osage Hydroelectric Project No. 459. The project is located on the Lake of the Ozarks in Missouri. Complainants allege that the licensee has failed or refused to comply with the Commission staff's letter order of September 7, 2004, and the Commission's order of May 9, 2005 (111 FERC ¶ 61,190). In support, they raise issues concerning the Commission staff's site visit report of July 29, 2005, and the licensee's compliance filing of October 14, 2005.

On September 15, 2005, the Commission denied Complainants' request for rehearing of the Commission's May 9 order. See 112 FERC ¶ 61,289. Therefore, the issues resolved in that decision are final and may not be the subject of a new complaint. On September 1, 2005, Commission staff issued a letter order concerning some outstanding compliance issues concerning the project. On September 30, 2005, Complainants filed a request for rehearing of staff's September 1 letter order.

The issues raised in Complainants filing of November 14, 2005, either relate to an ongoing compliance proceeding for which Commission staff has not yet completed its determinations, or are the subject of Complainants' request for rehearing of staff's letter order of September 1, 2005.¹ As such, they are not yet final and are not properly the subject of a formal complaint. Accordingly, the complaint is dismissed as premature. Complainants will have an opportunity to seek further relief after the pending staff and Commission actions have been completed.

¹ To the extent that Complainants seek to raise issues regarding the conduct of the Commission or its staff, these matters are outside the scope of the Commission's complaint process. See 18 CFR 385.206(a).

Magalie R. Salas,
Secretary.

[FR Doc. E5-7093 Filed 12-8-05; 8:45 am]

BILLING CODE 6717-01-P